NUCLEAR REGULATORY COMMISSION

[Docket No. NRC-2014-0145]

Agency Information Collection Activities: Proposed Collection; Comment Request

AGENCY: Nuclear Regulatory Commission.

ACTION: Notice of pending NRC action to submit an information collection request to the Office of Management and Budget (OMB) and solicitation of public comment.

SUMMARY: The NRC invites public comment about our intention to request the OMB's approval for a new information collection that is summarized below. We are required to publish this notice in the Federal Register under the provisions of the Paperwork Reduction Act of 1995 (44 U.S.C. Chapter 35).

Information pertaining to the requirement to be submitted:

1. The title of the information collection: Request for Information Related to the Filtering Strategies and Severe Accident Management of Boiling Water Reactors (BWR) with Mark I and Mark II Containments Rulemaking.

2. Current OMB approval number: 3150-XXXX.

3. How often the collection is required: Once.

4. Who is required or asked to report: The Nuclear Energy Institute (NEI) has been asked to respond for the industry. All BWR with Mark I and Mark II containments are expected to provide information to NEI.

5. The number of annual respondents: The NEI is collecting information that will be submitted to the NRC. The NRC estimates that there are 30 nuclear power plants that will be affected and one organization (NEI).

6. The number of hours needed annually to complete the requirement or request: The burden to respond to the one-time request is estimated to be 2,140 hours (annualized to 713.3 hours).

7. Abstract: The Information being collected is for the Filtering Strategies and Severe Accident Management of BWR with Mark I and Mark II Containment rulemaking. The NRC is requesting specific information, including detailed cost estimates of alternatives, general assumptions from proprietary documents being made public and plant-specific information on BWR with Mark I and Mark II containments.

Submit, by August 19, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly disclosed. Comments submitted should reference Docket No. NRC-2014-0145. You may submit your comments by any of the following methods: Electronic comments go to: http://www.regulations.gov and search for Docket No. NRC-2014-0145. Mail comments to the Acting NRC Clearance Officer, Kristen Benney (T-5 F50), U.S. Nuclear Regulatory Commission, Washington, DC 20555-0001.

Questions about the information collection requirements may be directed to the Acting NRC Clearance Officer, Kristen Benney (T-5 F50), U.S. Nuclear Regulatory Commission, Washington, DC 20555-0001; telephone: 301-415-6355, or by email to: INFOCOLLECTS.Resource@NRC.GOV.

Dated at Rockville, Maryland, this 16th day of June, 2014.
For the Nuclear Regulatory Commission.
Kristen Benney,
Acting NRC Clearance Officer, Office of Information Services.

[FR Doc. 2014-14451 Filed 6-19-14; 8:45 am]

BILLING CODE 7590-01-P